INTERNATIONAL TRADE COMMISSION

[Investigation No. 337-TA-1057 (Advisory Opinion Proceeding)]

Certain Robotic Vacuum Cleaning Devices and Components Thereof Such as Spare Parts; Institution of an Advisory Opinion Proceeding

AGENCY: U.S. International Trade Commission.

ACTION: Notice.

SUMMARY: Notice is hereby given that the U.S. International Trade Commission has determined to institute an advisory opinion proceeding in the above-captioned investigation.

FOR FURTHER INFORMATION CONTACT: Robert Needham, Office of the General Counsel, U.S. International Trade Commission, 500 E Street SW, Washington, DC 20436, telephone (202) 708-5468. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on (202) 205-1810.

SUPPLEMENTARY INFORMATION: The Commission instituted an investigation on May 23, 2017, based on a complaint filed by iRobot Corporation of Bedford, Massachusetts (“iRobot”). 82 FR 23593-94. The complaint, as supplemented, alleged violations of section 337 of the Tariff Act of 1930, as amended, 19 U.S.C. 1337, in the importation into the United States, the sale for importation, and the sale within the United States after importation of certain robotic vacuum cleaning devices and components thereof that infringe certain claims of, inter alia, U.S. Patent No. 9,038,233 (“the '233 patent”). Id. The Commission's notice of investigation named as a respondent, inter alia, Shenzhen Silver Star Intelligent Technology Co., Ltd., of Shenzhen, China (“Silver Star”). Id. at 23593. The Office of Unfair Import Investigations did not participate in the investigation. Id.

On November 30, 2018, the Commission found, inter alia, that Silver Star violated section 337 with respect to the '233 patent, and issued a limited exclusion order (“LEO”) against, inter alia, Silver Star with respect to claims 1, 10, 11, and 14-16 of the '233 patent. 83 FR 63186-87. The Commission also issued cease and desist orders (“CDOs”) against two of Silver Star's customers, Hoover Inc. and bObsweep, Inc., regarding those same claims. Id.

On January 30, 2019, Silver Star filed a request for an advisory opinion that eight of its products do not violate the LEO and CDOs. On February 11, 2019, iRobot opposed the advisory opinion request on numerous grounds.

On February 22, 2019, Silver Star requested leave to file a reply in support of its request for an advisory opinion. On February 27, 2019, iRobot argued that Silver Star's request for leave should be denied, or alternatively, iRobot should be given leave to file the attached sur-reply.

The Commission has determined that Silver Star's request complies with the requirements for institution of an advisory opinion proceeding under Commission Rule 210.79. The Commission finds that proceeding requires sufficient factfinding to warrant the delegation of the proceeding to an administrative law judge. Accordingly, the Commission has determined to institute an advisory opinion proceeding and has referred Silver Star's request to the Chief Administrative Law Judge to designate a presiding administrative law judge. The following entities are named as parties to the proceeding: (1) Complainant iRobot; (2) respondent Silver Star; and (3) the Office of Unfair Import Investigations. The Commission has also determined to deny Silver Star's request for leave to file a reply in support of its advisory opinion request.

The authority for the Commission's determination is contained in section 337 of the Tariff Act of 1930, as amended (19 U.S.C. 1337), and in part 210 of the Commission's Rules of Practice and Procedure (19 CFR part 210).

By order of the Commission.
Issued: March 15, 2019.
Katherine Hiner,
Acting Secretary to the Commission.

[FR Doc. 2019-05343 Filed 3-20-19; 8:45 am]

BILLING CODE 7020-02-P